DEPARTMENT OF HOMELAND SECURITY

Federal Emergency Management Agency

[Docket ID: FEMA-2023-0010; OMB No. 1660-NW131]

Agency Information Collection Activities: Submission for OMB Review; Comment Request; Generic Clearance for the Multi-Modal Mixed Methods Collection of Information To Inform Agency Marketing and Outreach

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning gathering insights from customers and stakeholders about their perceptions, experiences, and expectations that can improve the marketing and outreach of the Agency's services and programs.

DATES: Comments must be submitted on or before September 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address FEMA-Information-Collections-Management@fema.dhs.gov or Joshua Heath, Insurance Communications Specialist, Marketing & Outreach, Federal Insurance, Federal Insurance and Mitigation Administration, 202-322-6215, joshua.heath@fema.dhs.gov.

SUPPLEMENTARY INFORMATION: E.O. 12862 directs Federal Agencies to provide service to the public that matches or exceeds the best service available. Section 1(b) of E.O. 12862 requires government agencies to “survey customers to determine the kind and quality of services they want.” In addition, the Foundations for Evidence-Based Policymaking Act of 2018 (“Evidence Act”) enables agencies to collect and analyze data to use as evidence in policymaking, as well as assess the effectiveness and efficiency of current programs. To work continuously to ensure that our programs are effective and meet our customers' needs, FEMA seeks to obtain the Office of Management and Budget's (OMB) approval of a generic clearance to collect information through mixed methods (quantitative and qualitative) to improve marketing, outreach, and other promotional activities of services, programs, and opportunities offered by FEMA.

This proposed information collection previously published in the Federal Register on May 5, 2023, at 88 FR 29143 with a 60-day public comment period. No comments were received. The purpose of this notice is to notify the public that FEMA will submit the information collection abstracted below to the Office of Management and Budget for review and clearance.

Collection of Information

Title: Generic Clearance for the Multi-Modal Mixed Methods Collection of Information to Inform Agency Marketing and Outreach.

Type of Information Collection: New information collection.

OMB Number: 1660-NW131.

FEMA Forms: Not applicable.

Abstract: In accordance with the Evidence Act, the collected information will equip FEMA with vital feedback from the general public and stakeholders that will allow for evidence-based improvements to FEMA's programs and services. FEMA will collect, analyze, and interpret information to identify strengths and weaknesses of programs based on current stakeholder experience and make improvements in the marketing and other promotional activities based on feedback.

Affected Public: Individuals and households, business or other for-profit, Federal Government, State, local or Tribal government, non-profit institutions.

Estimated Number of Respondents: 45,600.

Estimated Number of Responses: 45,600.

Estimated Total Annual Burden Hours: 7,861.

Estimated Total Annual Respondent Cost: $374,020.

Estimated Respondents' Operation and Maintenance Costs: $0.

Estimated Respondents' Capital and Start-Up Costs: $0.

Estimated Total Annual Cost to the Federal Government: $748,830.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-17281 Filed 8-10-23; 8:45 am]

BILLING CODE 9111-52-P